DEPARTMENT OF ENERGY

Federal Energy Regulatory Commission

[Docket No. CP20-487-000]

Northern Natural Gas Company; Notice of Schedule for Environmental Review of the South Sioux City to Sioux Falls A-Line Replacement Project

On June 29, 2020, Northern Natural Gas Company (Northern) filed an application in Docket No. CP20-487-000 requesting a Certificate of Public Convenience and Necessity pursuant to 7(b) and 7(c) of the Natural Gas Act to abandon, construct, and operate certain natural gas facilities. The proposed project is known as the South Sioux City to Sioux Falls A-Line Replacement Project (Project) and Northern states that the Project would ensure safe and efficient operation of its existing pipeline system in Nebraska and South Dakota by replacing mechanical joints with modern welded steel pipeline.

On July 14, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies FERC staff's planned schedule for the completion of the EA for the Project.

Schedule for Environmental Review

Issuance of EA—January 5, 2021

90-day Federal Authorization Decision Deadline—April 5, 2021

If a schedule change becomes necessary, additional notice will be provided so that the relevant agencies are kept informed of the Project's progress.

Project Description

Northern proposes the following activities: (1) Abandon in-place 79.2 miles of its 14- and 16-inch-diameter M561 A-Line and replace the pipeline with 82.2 miles of 12-inch-diameter pipeline in Dakota and Dixon Counties, Nebraska, and Lincoln and Union Counties, South Dakota; (2) install an approximately 3.15-mile-long, 12-inch-diameter tie-over pipeline in Lincoln County, South Dakota; (3) abandon in-place the existing 0.16-mile-long, 2-inch-diameter Ponca branch pipeline and replace it with a 1.9-mile-long, 3-inch-diameter pipeline in Dixon County, Nebraska; (4) abandon in-place the existing 0.06-mile-long, 2-inch-diameter Jackson branch pipeline in Dakota County, Nebraska; and (5) construct, modify, or remove appurtenant facilities, including pig launchers and receivers, two new metering facilities, regulators, tie-overs, and associated piping and valves. Northern states that after Commission approval of the Project, portions of the abandoned pipeline would be purchased and removed by a third-party salvage company.

Background

On July 23, 2019, the Commission staff granted Northern's request to use FERC's pre-filing environmental review process and assigned the Project Docket No. PF19-8-000. On November 22, 2019, the Commission issued a Notice of Intent to Prepare an Environmental Assessment for the Planned South Sioux City to Sioux Falls A-Line Replacement Project, Request for Comments on Environmental Issues, and Notice of Public Scoping Sessions (NOI). The NOI was issued during the pre-filing review of the Project and was sent to affected landowners; federal, state, and local government agencies; elected officials; environmental and public interest groups; Native American tribes; other interested parties; and local libraries and newspapers.

In response to the NOI, the Commission received comments from the National Park Service, the Nebraska Department of Natural Resources, and four landowners. The primary issues raised by the commentors were impacts on water quality, visual resources, the Missouri National Recreational River and the Lewis and Clark National Historic Trail, ground water and surface water resources, floodplains, agriculture and grazing, residential areas in close proximity to the pipeline, and impacts from soil erosion, contamination, and landform degradation. All substantive comments will be addressed in the EA.

The U.S. Army Corps of Engineers is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-487), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 27, 2020.
Nathaniel J. Davis, Sr.,
Deputy Secretary.

[FR Doc. 2020-19377 Filed 9-1-20; 8:45 am]

BILLING CODE 6717-01-P